ENVIRONMENTAL PROTECTION AGENCY

[EPA-HQ-OPPT-2003-0004; FRL-10937-01-OCSPP]

Access to Confidential Business Information; Industrial Economics, Incorporated

AGENCY: Environmental Protection Agency (EPA).

ACTION: Notice.

SUMMARY: This notice announces that information submitted to EPA under the Toxic Substances Control Act (TSCA), including information that may have been claimed as or determined to be Confidential Business Information (CBI), will be transferred to its contractor Industrial Economics, Incorporated (IEc) of Cambridge, MA in accordance with the CBI regulations. Access to this information will enable the contractor to fulfill the obligations of the contract with EPA.

DATES: Access to the information will occur no sooner than May 26, 2023.

FOR FURTHER INFORMATION CONTACT:

For technical information contact: Colby Lintner or Adam Schwoerer, Program Management and Operations Division (7407M), Office of Pollution Prevention and Toxics, Environmental Protection Agency, 1200 Pennsylvania Ave. NW, Washington, DC 20460-0001; telephone numbers: (202) 564-8182 or (202) 564-4767; email addresses: lintner.colby@epa.gov or schwoerer.adam@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

This action is directed to the public in general. As such, the Agency has not attempted to describe all the entities that may be affected by this action.

B. Is there a docket for this action?

The docket for this action, identified by docket identification (ID) number EPA-HQ-OPPT-2003-0004, is available at https://www.regulations.gov. This docket does not contain the information that is being transferred. Additional instructions on accessing the docket, along with more information about dockets generally, is available at https://www.epa.gov/dockets.

II. Contract Requirements

Under EPA contract number 68HERC23D0020, contractor Industrial Economics, Incorporated (IEc), located at 2067 Massachusetts Avenue, Cambridge, MA 02140, will assist the Office of Pollution Prevention and Toxics (OPPT) by conducting financial and economic analyses in TSCA enforcement actions and will also review tax returns, financial statements, and other information that may contain CBI.

In accordance with 40 CFR 2.306(j), EPA has determined that the personnel of this contractor will require access to CBI submitted to EPA under all sections of TSCA to perform successfully the duties specified under the contract. EPA is issuing this notice to inform all submitters of information to EPA under all sections of TSCA that EPA will provide this contractor with access to these CBI materials on a need-to-know basis only. All access to TSCA CBI under this contract will take place at EPA Headquarters, the contractor's site, located at 2067 Massachusetts Avenue, Cambridge, MA 02140, and at telework locations of EPA and contractor personnel in accordance with EPA's TSCA CBI Protection Manual and the Rules of Behavior for Virtual Desktop Access to OPPT Materials, including TSCA CBI. All personnel will be required to sign nondisclosure agreements and will be briefed on specific security procedures for TSCA CBI.

Access to TSCA data, including CBI, will continue until April 2, 2028. If the contract is extended, this access will also continue for the duration of the extended contract without further notice.

Authority: 15 U.S.C. 2601 et seq.

Dated: May 15, 2023.
Pamela Myrick,
Director, Project Management and Operations Division, Office of Pollution Prevention and Toxics.

[FR Doc. 2023-10672 Filed 5-18-23; 8:45 am]

BILLING CODE 6560-50-P